DEPARTMENT OF THE INTERIOR

Fish and Wildlife Service

[FWS-R8-ES-2013-N013; FXES11130800000-134-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before March 13, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-91199A

Applicant: Sean M. Harris, San Diego, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-835365

Applicant: California Department of Water Resources (CDWR), Sacramento, California

The applicant requests a permit renewal and amendment to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) throughout the range of each species in California; take (capture, mark, and release) the northern salt marsh harvest mouse (Reithrodontomys raviventris halicoetes) in Solano County, California; take (capture, handle, mark, tag, collect tissue, and release) the giant garter snake (Thamnophis gigas) throughout the range of the species in California; and take (capture, handle, and release) the California red-legged frog (Rana draytonii) (R. aurora d.) and the California tiger salamander (central DPS) (Ambystoma californiense) in Napa, Solano, Contra Costa, Alameda, San Joaquin, Santa Clara, Stanislaus, Merced, and Fresno Counties, California, in conjunction with survey and scientific research activities throughout the range of each species in California and Nevada for the purpose of enhancing the species' survival.

Permit No. TE-809232

Applicant: Bio-West Incorporated, Logan, Utah

The applicant requests an amendment to take (expand the range of authorized activities, and to seine, collect and preserve larva) the Razorback sucker (Xyrauchen texanus), take (seine, collect, and preserve larva) the bonytail chub (Gila elegans), and take (capture and release) the humpback chub (Gila cypha) in conjunction with surveys and scientific studies in Clark County, Nevada; and Mohave, La Paz, and Pima County, Arizona, for the purpose of enhancing the species' survival.

Permit No. TE-78622A

Applicant: Jared P. Taylor, Spring Valley, California

The applicant requests a permit to take (monitor nests) the least Bell's vireo (Vireo bellii pusillus) in conjunction with surveys and population monitoring activities throughout the range of the species in California for the purpose of enhancing the species' survival.

Permit No. TE-840619

Applicant: Jeffrey D. Priest, Encinitas, California

The applicant requests a permit renewal to take (survey by pursuit) the Quino checkerspot butterfly (Euphydryas editha quino) and take (harass by survey) the southwestern willow flycatcher (Empidonax traillii extimus) in conjunction with surveys in San Diego, Riverside, San Bernardino, Los Angeles, and Ventura Counties, California, for the purpose of enhancing the species' survival.

Permit No. TE-787037

Applicant: Marie Simovich, San Diego, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and research activities throughout the range of each species in California for the purpose of enhancing the species' survival.

Permit No. TE-103076

Applicant: Transcon Environmental, Mesa, Arizona

The applicant requests a permit renewal and amendment to take (harass by survey) the southwestern willow flycatcher (Empidonax traillii extimus) in conjunction with survey activities throughout the range of the species in California and Nevada for the purpose of enhancing the species' survival.

Permit No. TE-799570

Applicant: Carol W. Witham, San Diego, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and research activities throughout the range of each species in California for the purpose of enhancing the species' survival.

Permit No. TE-092162

Applicant: Andrew F. Borcher, Santee, California

The applicant requests an amendment to a permit to take (monitor nests) the least Bell's vireo (Vireo bellii pusillus) in conjunction with surveys and population monitoring activities throughout the range of the species in California for the purpose of enhancing the species' survival.

Permit No. TE-195305

Applicant: Andres Aguilar, Merced, California

The applicant requests a permit renewal to take (capture, collect, and collect vouchers) the Conservancy fairy shrimp (Branchinecta conservatio), longhorn fairy shrimp (Branchinecta longiantenna), and vernal pool tadpole shrimp (Lepidurus packardi) in conjunction with survey and research activities in Merced, Madera, Glenn, San Luis Obispo, Solano, Stanislaus, Ventura, Contra Costa, and Fresno Counties, California, for the purpose of enhancing the species' survival.

Permit No. TE-799568

Applicant: Dana K. Kamada, San Clemente, California

The applicant requests a permit renewal to take (capture, handle, band, and release) the least Bell's vireo (Vireo bellii pusillus) and southwestern willow flycatcher (Empidonax traillii extimus) and take (survey by pursuit) the Quino checkerspot butterfly (Euphydryas editha quino) in conjunction with surveys and population monitoring activities throughout the range of each species in California for the purpose of enhancing the species' survival.

Permit No. TE-93066A-0

Applicant: Esther M. Cole, Davis, California

The applicant requests a permit to take (harass by survey, capture, handle, and release) the San Francisco garter snake (Thamnophis sirtalis tetrataenia) in conjunction with survey and research activities in San Mateo County, California, for the purpose of enhancing the species' survival.

Permit No. TE-003269

Applicant: Robert A. James, San Diego, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (harass by survey, capture, and release) the Stephens' kangaroo rat (Dipodomys stephensi) and Pacific pocket mouse (Perognathus longimembris pacificus); and take (harass by survey) the Quino checkerspot butterfly (Euphydryas editha quino) in conjunction with survey activities throughout the range of each species in California and Nevada for the purpose of enhancing the species' survival.

Permit No. TE-64546A

Applicant: Power Engineers, Meridian, Idaho

The applicant requests a permit amendment to take (harass by survey and monitor nests) the southwestern willow flycatcher (Empidonax traillii extimus) in conjunction with survey and population monitoring activities throughout the range of the species in Nevada, Arizona, New Mexico, Texas, Utah, and Colorado for the purpose of enhancing the species' survival.

Permit No. TE-797315

Applicant: Michael L. Morrison, College Station, Texas

The applicant requests a renewal to take (capture, handle, and release) the salt marsh harvest mouse (Reithrodontomys raviventris), take (capture, handle, collect genetic material, and release) the Fresno kangaroo rat (Dipodomys nitratoides exilis), and take (capture, handle, mark, and release) the California tiger salamander (central DPS) (Ambystoma californiense) in conjunction with survey and scientific research activities throughout the range of each species in Alameda, Contra Costa, Fresno, Kings, Marin, Madera, Napa, San Mateo, Santa Clara, Solano, and Sonoma Counties, California, for the purpose of enhancing the species' survival.

Permit No. TE-93072A

Applicant: Joel J. Mulder, Carpinteria, California

The applicant requests a permit to take (survey, capture, handle, and release) the tidewater goby (Eucyclogobius newberryi) and unarmored threespine stickleback (Gasterosteus aculeatus williamsoni) in conjunction with surveys and population monitoring activities throughout the range of the species in California for the purpose of enhancing the species' survival.

Permit No. TE-090849

Applicant: David K. Wolff, San Luis Obispo, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-61783A

Applicant: Sonya E. Steckler, San Diego, California

The applicant requests a permit amendment to take (monitor nests) the least Bell's vireo (Vireo bellii pusillus) in conjunction with surveys and population monitoring activities throughout the range of the species in California for the purpose of enhancing the species' survival.

Permit No. TE-190303

Applicant: Daniel W.H. Shaw, Tahoe City, California

The applicant requests a permit renewal to take (harass by survey, capture, handle, and release) the California tiger salamander (Santa Barbara County DPS and Sonoma County DPS) (Ambystoma californiense) in conjunction with surveys and population studies throughout the range of each species in California for the purpose of enhancing the species' survival.

Permit No. TE-797233

Applicant: Entomological Consulting Services, Pleasant Hill, California

The applicant requests an amendment to a permit to take (survey, capture, handle and release) the Behren's silverspot butterfly (Speyeria zerene behrensii), Myrtle's silverspot butterfly (Speyeria zerene myrtleae), lotis blue butterfly (Lycaeides argyrognomon lotis), callippe silverspot butterfly (Speyeria callippe callippe), San Bruno elfin butterfly (Callophrys mossii bayensis), mission blue butterfly (Icaricia icarioides missionensis), Lange's metalmark butterfly (Apodemia mormo langei), take (conduct habitat restoration activities) for the Zayante band-winged grasshopper (Trimerotropis infantilis), and take (capture, handle, transport, relocate, and release) the Smith's blue butterfly (Euphilotes enoptes smithi) in conjunction with surveys, population monitoring, and habitat restoration activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2013-02983 Filed 2-8-13; 8:45 am]

BILLING CODE 4310-55-P